DEPARTMENT OF VETERANS AFFAIRS

National Research Advisory Council; Cancellation of Meeting

The Department of Veterans Affairs (VA) gives notice under Public Law 92-463 (Federal Advisory Committee Act) that the National Research Advisory Council meeting scheduled for Tuesday, November 8, 2005, at the Hamilton Crowne Plaza Hotel, 14th & K Streets, NW., Washington, DC, has been cancelled.

Any member of the public wishing further information should contact Ms. Karen Scott, Designated Federal Officer, at (202) 254-0200, or karen.scott@hq.med.va.gov. She can also be reached by writing to Ms. Scott at Department of Veterans Affairs, Office of Research and Development (12C), 810 Vermont Ave, NW., Washington, DC 20420.

Dated: October 27, 2005.
By Direction of the Secretary.
E. Philip Riggin,
Committee Management Officer.

[FR Doc. 05-21890 Filed 11-2-05; 8:45 am]

BILLING CODE 8320-01-M